DEPARTMENT OF COMMERCE

International Trade Administration

[C-570-957]

Certain Seamless Carbon and Alloy Steel Standard, Line, and Pressure Pipe from the People's Republic of China: Alignment of Final Countervailing Duty Determination with Final Antidumping Duty Determination

AGENCY: Import Administration, International Trade Administration, Department of Commerce.

SUMMARY: The Department of Commerce (the “Department”) is aligning the final determination in this countervailing duty investigation of certain seamless carbon and alloy steel standard, line, and pressure pipe (“seamless pipe”) from the People's Republic of China (“PRC”) with the final determination in the companion antidumping duty investigation.

EFFECTIVE DATE: March 19, 2010.

FOR FURTHER INFORMATION CONTACT: Shane Subler, Yasmin Nair, Joseph Shuler, or Matthew Jordan, AD/CVD Operations, Office 1, Import Administration, International Trade Administration, U.S. Department of Commerce, 14th Street and Constitution Avenue, NW, Washington, DC 20230; telephone: (202) 482-0189, (202) 482-3813, (202) 482-1293, or (202) 482-1540, respectively.

SUPPLEMENTARY INFORMATION:

Background

On October 6, 2010, the Department simultaneously initiated antidumping and countervailing duty investigations of seamless pipe from the PRC. See Certain Seamless Carbon and Alloy Steel Standard, Line, and Pressure Pipe From the People's Republic of China: Initiation of Antidumping Duty Investigation, 74 FR 52744 (October 14, 2009) and Certain Seamless Carbon and Alloy Steel Standard, Line, and Pressure Pipe from the People's Republic of China: Initiation of Countervailing Duty Investigation, 74 FR 52945 (October 15, 2009).

On March, 1, 2010, the Department published the preliminary affirmative countervailing duty determination pertaining to seamless pipe from the PRC. See Certain Seamless Carbon and Alloy Steel Standard, Line, and Pressure Pipe From the People's Republic of China: Preliminary Affirmative Countervailing Duty Determination, Preliminary Affirmative Critical Circumstances Determination, 75 FR 9163 (March 1, 2010). Also on March 1, 2010, the petitioners (United States Steel Corporation, V&M Star L.P., TMK IPSCO, and United Steel, Paper and Forestry, Rubber, Manufacturing, Energy, Allied Industrial and Service Workers International Union) requested alignment of the final countervailing duty determination with the final determination in the companion antidumping duty investigation of seamless pipe from the PRC, in accordance with section 705(a)(1) of the Tariff Act of 1930, as amended (“the Act”), and 19 CFR 351.210(b)(4).

Therefore, in accordance with section 705(a)(1) of the Act and 19 CFR 351.210(b)(4), we are aligning the final countervailing duty determination of seamless pipe from the PRC with the final determination in the companion antidumping duty investigation of seamless pipe from the PRC. The final countervailing duty determination will be issued on the same date as the final antidumping duty determination, which is currently scheduled for July 6, 2010.

This notice is issued and published pursuant to section 705(a)(1) of the Act.

Dated: March 15, 2010.
Kim Glas,
Acting Deputy Assistant Secretary for Import Administration.

[FR Doc. 2010-6098 Filed 3-18-10; 8:45 am]

BILLING CODE 3510-DS-S